DEPARTMENT OF COMMERCE

National Oceanic and Atmospheric Administration

50 CFR Part 679

[Docket No. 0810141351-9087-02]

RIN 0648-XU34

Fisheries of the Exclusive Economic Zone Off Alaska; Bering Sea and Aleutian Islands Trawl Limited Access Fishery in the C. opilio Bycatch Limitation Zone of the Bering Sea and Aleutian Islands Management Area

AGENCY: National Marine Fisheries Service (NMFS), National Oceanic and Atmospheric Administration (NOAA), Commerce.

ACTION: Temporary rule; closure.

SUMMARY: NMFS is prohibiting directed fishing for vessels in the Bering Sea and Aleutian Islands (BSAI) trawl limited access fisheries, except American Fisheries Act (AFA) vessels using pelagic trawl gear for walleye pollock, in the C. opilio bycatch limitation zone (COBLZ) of the BSAI management area. This action is necessary to prevent exceeding the 2010 COBLZ bycatch allowance of C. opilio specified for the BSAI trawl limited access fishery in the BSAI management area.

DATES: Effective 1200 hrs, Alaska local time (A.l.t.), February 8, 2010, through 2400 hrs, A.l.t., December 31, 2010.

FOR FURTHER INFORMATION CONTACT: Steve Whitney, 907-586-7269.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2010 COBLZ bycatch allowance of C. opilio Tanner crab specified for vessels participating in the BSAI trawl limited access fishery in the BSAI is 1,248,494 animals as established by the final 2009 and 2010 harvest specifications for groundfish in the BSAI (74 7359, February 17, 2009).

The Administrator, Alaska Region, NMFS, has determined that the 2010 COBLZ bycatch allowance of C. opilio specified for vessels participating in the BSAI trawl limited access fishery in the BSAI has been caught. Consequently, in accordance with § 679.21(e)(7)(iv), NMFS is closing directed fishing in the COBLZ of the BSAI management area for vessels participating in the BSAI trawl limited access fishery, except American Fisheries Act (AFA) vessels using pelagic trawl gear for walleye pollock.

After the effective date of this closure the maximum retainable amounts at § 679.20(e) and (f) apply at any time during a trip.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the closure of directed fishing in the COBLZ by vessels participating in the BSAI trawl limited access fishery of the BSAI. NMFS was unable to publish a notice providing time for public comment because the most recent, relevant data only became available as of February 5, 2010.

The AA also finds good cause to waive the 30-day delay in the effective date of this action under 5 U.S.C. 553(d)(3). This finding is based upon the reasons provided above for waiver of prior notice and opportunity for public comment.

This action is required by § 679.21 and is exempt from review under Executive Order 12866.

Authority: 16 U.S.C. 1801 et seq.

Dated: February 12, 2010.
Emily H. Menashes,
Acting Director, Office of Sustainable Fisheries, National Marine Fisheries Service.

[FR Doc. 2010-3090 Filed 2-12-10; 4:15 pm]

BILLING CODE 3510-22-S